DEPARTMENT OF TRANSPORTATION

Federal Railroad Administration

[Docket No. FRA-2019-0004-N-12]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Requests (ICRs) abstracted below to the Office of Management and Budget (OMB) for review and comment. The ICRs describe the information collections and their expected burden. On June 14, 2019, FRA published a notice providing a 60-day period for public comment on the ICRs.

DATES: Interested persons are invited to submit comments on or before September 20, 2019.

ADDRESSES: Submit written comments on the ICRs to the Office of Information and Regulatory Affairs, Office of Management and Budget, 725 17th Street NW, Washington, DC 20503, Attention: FRA Desk Officer. Comments may also be sent via email to OMB at the following address: oira_submissions@omb.eop.gov.

FOR FURTHER INFORMATION CONTACT: Mr. Robert Brogan, Information Collection Clearance Officer, Office of Railroad Safety, Regulatory Analysis Division, Federal Railroad Administration, 1200 New Jersey Avenue SE, Room W33-497, Washington, DC 20590 (telephone: (202) 493-6292); or Ms. Kim Toone, Information Collection Clearance Officer, Office of Information Technology, Federal Railroad Administration, 1200 New Jersey Avenue SE, Room W34-212, Washington, DC 20590 (telephone: (202) 493-6132).

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On June 14, 2019, FRA published a 60-day notice in the Federal Register soliciting comment on the ICRs for which it is now seeking OMB approval. See 84 FR 27833. FRA received and reviewed the comments submitted in response to this notice.

On August 7, 2019, Ms. Sarah Yurasko, of the Association of American Railroads (AAR) sent a comment on behalf of its member railroads regarding FRA's Crossing Inventory renewal information collection (Part 234; OMB No. 2130-0017). Ms. Yurasko noted that AAR and its member railroads “have worked diligently with FRA since the 2015 publication of the Highway-Rail Crossing Inventory Final Rule to ensure that the information reported via the U.S. Crossing Inventory forms is accurate.” She noted that “both railroads and State entities access the site to report information under their respective purviews, and unfortunately, there have been several instances in which a state has over-written railroad-provided information in one of the railroad fields.” She observed that such errors lead to confusion, administrative burden to remediate, and “potential FRA enforcement activity.” AAR and its member railroads are urging FRA to amend its system to lock-off designated sections of the U.S. DOT Crossing Inventory Form to the railroad, and other designated sections to the state entity. Ms. Yurasko advocated that there are several sections of the Inventory Form which both the railroad and the state entity should be able to modify and that, in these instances, “the form should allow all parties to see who made the most recent update to the information in the form.” Ms. Yurasko included a color-coded copy of the Inventory Form (FRA F 6180.71) to illustrate the categorization of fields that railroads and the state entity would each complete.

The accuracy and reliability of the data that railroads and state entities provide on the FRA Inventory Form is vital to FRA and to its mission of promoting and enhancing national rail safety, particularly at grade crossings. Before FRA issued the Crossing Inventory final rule in 2015, FRA solicited comment and feedback on sections of the Inventory Form that the railroads and state entities would complete. Accordingly, in its March 29, 2013, comments on the proposed Crossing Inventory rule, AAR recommended FRA limit access to certain specified data fields to either the railroad or state entity to prevent submission of erroneous information by the other entity. The Crossing Inventory system is designed to allow users to view previously submitted Inventory Forms, which can then be used to determine when revised Inventory Forms were submitted and whether the railroad or state entity submitted them. However, FRA will consider Ms. Yurasko's recommendations on behalf of the AAR and its member railroads to lock certain sections of the Inventory Form to prevent over-writing by another entity.

Before OMB decides whether to approve these proposed collections of information, it must provide 30 days for public comment. Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICRs regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summaries below describe the ICRs that FRA will submit for OMB clearance as the PRA requires:

Title: U.S. DOT Crossing Inventory.

OMB Control Number: 2130-0017.

Abstract: On January 6, 2015, FRA published in the Federal Register a final rule that requires railroads that operate one or more trains through highway-rail or pathway crossings to submit information to the U.S. DOT National Highway-Rail Crossing Inventory about the crossings through which they operate.¹ See 80 FR 746. These amendments, mandated by section 204 of the Rail Safety Improvement Act of 2008, require railroads to submit information about previously unreported and new highway-rail and pathway crossings to the U.S. DOT National Highway-Rail Crossing Inventory and to periodically update existing crossing data.

¹ This final rule was subsequently amended on June 10, 2016, in response to a petition for reconsideration submitted by the Association of American Railroads. See 81 FR 37521.

Type of Request: Extension with change (revised estimates) of a current information collection.

Affected Public: Businesses (railroads), States, and the District of Columbia (DC).

Form(s): FRA F 6180.71.

Respondent Universe: 692 railroads, 50 States and DC.

Frequency of Submission: On occasion/monthly.

Reporting Burden: ²

² After an internal agency review, FRA updated the PRA estimates.

³ Based on Bureau of Labor Statistics (BLS) data, FRA is using an average hourly wage rate of $74 per hour for State employees to determine the dollar equivalent cost of estimated burden hours. Based on the 2017 American Association publication, Railroad Facts, FRA is using an average hourly wage rate of $77 per hour for professional/administrative to determine the same dollar equivalent costs. All hourly wage rates included 75 percent overhead costs.

CFR section | Respondent universe | Total annual responses | Average time per response | Total annual burden hours | Total annual burden hour dollar cost equivalent ³
234.403(a), (b), (c), (e)(3)—Submission of data to the U.S. DOT Highway-Rail Crossing Inventory: Completion of inventory form | 51 States/DC & 692 railroads | 1,495 forms | 30 minutes | 748 | $55,352
—Mass update lists of designated data submitted by railroads/states | 51 States/DC & 692 railroads | 67 lists (1,081 records) | 30 minutes | 34 | 2,516
—Excel lists of submitted data | 51 States/DC & 692 railroads | 750 lists (110,238 records) | 15 minutes | 188 | 13,912
—Changes/corrections to Crossing Inventory data submitted via API computer program | 51 States/DC & 692 railroads | 134,719 records | 3 minutes | 6,736 | 498,464
—Written requests by states/railroads for FRA Crossing Inventory Guide | 51 States/DC & 692 railroads | 5 requests | 15 minutes | 1 | 74
(d)—Reporting Crossing Inventory data by state agencies on behalf of railroads: Written notices to FRA | 51 States/DC & 692 railroads | 15 notices | 30 minutes | 8 | 592
(e)(1)—Consolidated reporting by parent corporation on behalf of its subsidiary railroads: Written notice to FRA | 692 railroads | 250 notices | 30 minutes | 125 | 9,625
(e)(2)—Immediate notification to FRA by parent corporation of any changes in the list of subsidiary railroads for which it reports | 692 railroads | 75 notices | 30 minutes | 38 | 2,926
234.405(a)(1)—Initial submission of previously unreported highway-rail and pathway crossings through which they operate by primary operating railroads: Providing assigned crossing inventory number to each railroad that operates one or more trains through crossing | 692 railroads | 300 provided assigned inventory numbers | 5 minutes | 25 | 1,925
—Primary operating railroad providing assigned inventory number to other (2) railroads operating through crossing | 692 railroads | 200 assigned numbers | 5 minutes | 17 | 1,309
(c)—Duty of all operating railroads: Notification to FRA of previously unreported crossing through which it operates | 692 railroads | 200 assigned numbers | 20 minutes | 67 | 5,159
(d)—Primary operating railroad copy to FRA of its written request to State agency for State-maintained crossing data | 692 railroads | 70 written requests | 2 minutes | 2 | 154
—Copies of primary operating railroad written request to other operating railroads | 692 railroads | 75 written requests | 2 minutes | 3 | 231
234.407(a)—Submission of initial data to the Crossing Inventory for new Crossings: Primary operating railroad assignment of Inventory number to each new highway-rail or pathway crossing through which it operates | 692 railroads | 50 assigned inventory numbers | 5 minutes | 4 | 308
—Providing assigned inventory numbers for new highway-rail and pathway crossings through which they operate by primary operating railroads to each railroad that operates one or more trains through the crossing | 692 railroads | 50 assigned inventory numbers | 5 minutes | 4 | 308
234.411(a)(ii)—Notification/report by railroad to primary operating railroad of sale of all or part of a highway-rail or pathway on or after June 10, 2016 | 692 railroads | 400 notices/reports | 15 minutes | 100 | 7,700
234.413(a & b)—Recordkeeping—RR Duplicate copy of each inventory form submitted in hard copy to the Crossing Inventory | 692 railroads | 350 duplicate copies | 1 minute | 6 | 462
—Copy of electronic confirmation received from FRA after electronic submission of crossing data to Crossing Inventory | 692 railroads | 134,719 copies | 5 seconds | 187 | 14,399

Total Estimated Annual Responses: 384,292.

Total Estimated Annual Burden: 8,293 hours.

Total Estimated Annual Burden Hour Dollar Cost Equivalent: $615,416.

Title: Special Notice for Repairs.

OMB Control Number: 2130-0504.

Abstract: Under 49 CFR part 216, FRA and State inspectors may issue a Special Notice for Repairs to notify a railroad in writing of an unsafe condition involving a locomotive, car, or track. The railroad must notify FRA in writing when the equipment is returned to service or the track is restored to a condition permitting operations at speeds authorized for a higher class, specifying the repairs completed. FRA and State inspectors use this information to remove from service freight cars, passenger cars, and locomotives until they can be restored to a serviceable condition. They also use this information to reduce the maximum authorized speed on a section of track until repairs can be made.

Type of Request: Extension with change (revised estimates) of a current information collection.

Affected Public: Businesses (railroads).

Form(s): FRA F 6180.8; FRA F 6180.8A.

Respondent Universe: 741 railroads.

Frequency of Submission: On occasion.

Total Estimated Annual Responses: 57.

Total Estimated Annual Burden: 16 hours.

Total Estimated Annual Burden Hour Dollar Cost Equivalent: $1,232.

Title: Bridge Safety Standards.

OMB Control Number: 2130-0586.

Abstract: The Fixing America's Surface Transportation Act (FAST Act) (Pub. L. 114-94, Dec. 4, 2015), Section 11405, “Bridge Inspection Reports,” provides a means for a State or a political subdivision of a State to obtain a public version of a bridge inspection report generated by a railroad for a bridge located within its respective jurisdiction. While the FAST Act specifies that requests for such reports are to be filed with the Secretary of Transportation, the responsibility for fulfilling these requests is delegated to FRA. See 49 CFR 1.89.

FRA's currently approved information collection accounts for the burden that will be incurred by States and political subdivisions of States requesting a public version of a bridge inspection report generated by a railroad for a bridge located within their respective jurisdiction. FRA developed a Form titled “Bridge Inspection Report Public Version Request Form” to facilitate such requests by States and their political subdivisions. FRA accounts for the burden that will be incurred by railroads to provide the public version of a bridge inspection report upon agency request to FRA.

As background, FRA's final rule on bridge safety standards, 49 CFR part 237, normalized and established federal requirements for railroad bridges. See 75 FR 41281 (July 15, 2010). The final rule established minimum requirements to assure the structural integrity of railroad bridges and to protect the safe operation of trains over those bridges. The information collected is used by FRA to ensure that railroads/track owners meet Federal standards for bridge safety and comply with all the requirements of this regulation. In particular, the collection of information is used by FRA to confirm that railroads/track owners adopt and implement bridge management programs to properly inspect, maintain, modify, and repair all bridges that carry trains for which they are responsible. Railroads/track owners must conduct annual inspections of railroad bridges as well as special inspections, which must be carried out if natural or accidental events cause conditions that warrant such inspections. Further, railroads/track owners must incorporate provisions for internal audit into their bridge management programs and must conduct internal audits of bridge inspection reports. The internal audit information is used by railroads/track owners to verify that the inspection provisions of the bridge management program are being followed and to continually evaluate the effectiveness of their bridge management program and bridge inspection activities. FRA uses this information to ensure that railroads/track owners implement safe and effective bridge management and inspection programs.

Type of Request: Extension with change (revised estimates) of a current information collection.

Affected Public: Businesses (railroads) and States, DC, and political subdivisions).

Form(s): FRA F 6180.167.

Respondent Universe: 741 railroads/50 States and DC/200 political subdivisions.

Frequency of Submission: On occasion/monthly.

Total Estimated Annual Responses: 16,037.

Total Estimated Annual Burden: 4,857 hours.

Total Estimated Annual Burden Hour Dollar Cost Equivalent: $334,299.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Acting Chief Counsel.

[FR Doc. 2019-18031 Filed 8-20-19; 8:45 am]

BILLING CODE 4910-06-P